NATIONAL SCIENCE FOUNDATION

Committee Management; Notice of Establishment

The Deputy Director of the National Science Foundation has determined that the establishment of the Advisory Committee for Physical Anthropology and Archaeology Data Sharing is necessary and in the public interest in connection with the performance of duties imposed upon the National Science Foundation (NSF), by 42 U.S.C. 1861 et seq. This determination follows consultation with the Committee Management Secretariat, General Services Administration.

Name of Committee: Advisory Committee for Physical Anthropology and Archaeology Data Sharing (#16587).

Purpose: Advise the National Science Foundation (NSF) on matters concerning sharing of primary data within physical anthropology and archaeology. Recognizing unique characteristics of such information, it will assist Foundation officials in producing guidelines to implement NSF's data sharing policies. It will engage in discussion and prepare a report with recommendations.

Responsible NSF Official: Mark Weiss, Program Director, Physical Anthropology, National Science Foundation, 4201 Wilson Boulevard, Room 995, Arlington, VA 22230. Telephone: 703/292-8740.

Dated: June 5, 2003.
Susanne Bolton,
Committee Management Officer.

[FR Doc. 03-14597 Filed 6-9-03; 8:45 am]

BILLING CODE 7555-01-M